DEPARTMENT OF ENERGY

Federal Energy Regulatory Commission

[Docket No. ER13-2108-000]

PJM Interconnection, L.L.C.; Notice of Technical Conference

Federal Energy Regulatory Commission (Commission) staff will hold a technical conference on November 13, 2013 from 9:00 a.m. to approximately 1:00 p.m., to consider issues related to PJM Interconnection, L.L.C.'s (PJM) proposed demand response plan enhancements, as announced in the October 1, 2013 order in this docket.¹ The conference will be held in Hearing Room 2 at the Federal Energy Regulatory Commission, 888 First Street NE., Washington, DC 20426.

¹ On October 1, 2013 the Commission issued an Order Conditionally Accepting and Suspending Proposed Tariff Changes and Instituting a Technical Conference in Docket No. ER13-2108-000.

At the technical conference, the Commission Staff and the parties to the proceeding can discuss all of the issues raised by PJM's filing. In particular, parties should be prepared to discuss the following:

1. According to PJM, RPM markets are physical markets, and any resource bid into an RPM auction should intend to physically provide any offered capacity that clears in the relevant delivery year. Can PJM distinguish between companies purchasing capacity resources in the incremental auctions to make up shortfalls due to difficulties meeting their obligation and companies that arbitrage between the base residual and incremental auctions? How will the informational requirements for DR resources under this proposal help guarantee that DR resources are using the Incremental Auctions as intended?

2. Do generating resources face comparable informational requirements? If there are differences, what are the reasons for those differences? Do the existing information requirements for generators reduce the rate with which these resources buy out their obligations in the Incremental Auctions?

3. PJM states that its proposed changes will allow it to make a “more reasoned assessment” of a DR Provider's reliance on expected commitments. How will PJM determine whether submitted milestones are reasonable? How much discretion will PJM staff exercise in accepting Sell Offer Plans?

4. What is the impact on reliability of the observed increase in purchases of replacement capacity through the Incremental Auctions as compared to the Base Residual Auction? What are the effects on price for end-use customers? What evidence is there that DR obligated to perform by the start of a Delivery Year, or replacement capacity purchased through the Incremental Auctions, is less capable of meeting performance obligations than generation or DR that cleared through the Base Residual Auction? Are there indications that the DR that cleared in the Base Residual Auction in zones with high DR penetration is less likely to show up, or perform in the delivery year, than in other zones? Are there other reliability issues that stem from high DR penetration in these zones?

5. Do the recent series of Incremental Auctions with lower clearing prices than the Base Residual Auction result directly from RPM's market rules or some other factor?

Following the conference, the Commission will consider post-technical conference comments submitted by November 27, 2013. Answers to post-technical conference comments are due by close of business on December 4, 2013.

Commission conferences are accessible under section 508 of the Rehabilitation Act of 1973. For accessibility accommodations, please send an email to accessibility@ferc.gov or call toll free 1-866-208-3372 (voice) or 202-502-8659 (TTY), or send a FAX to 202-208-2106 with the required accommodations.

All interested persons are permitted to attend. For more information about the technical conference, please contact:

Tristan Cohen (Technical Information), Office of Energy Market Regulation, Federal Energy Regulatory Commission, 888 First Street NE., Washington, DC 20426, (202) 502-6598, Tristan.Cohen@ferc.gov.

Sarah McKinley (Logistical Information), Office of External Affairs, Federal Energy Regulatory Commission, 888 First Street NE., Washington, DC 20426, (202) 502-8004, Sarah.McKinley@ferc.gov.

Dated: October 11, 2013.
Nathaniel J. Davis, Sr.,
Deputy Secretary.

[FR Doc. 2013-24515 Filed 10-18-13; 8:45 am]

BILLING CODE 6717-01-P